DEPARTMENT OF LABOR

Mine Safety and Health Administration

Petitions for Modification

The following parties have filed petitions to modify the application of existing safety standards under section 101(c) of the Federal Mine Safety and Health Act of 1977.

1. Bridger Coal Company

[Docket No. M-2006-004-C]

Bridger Coal Company, P.O. Box 68, Point of Rocks, Wyoming 82942 has filed a petition to modify the application of 30 CFR 75.1902(c)(2)(i), (ii), and (iii) (Underground diesel fuel storage-general requirements) to its Bridger Coal Underground Mine (MSHA I.D. No. 48-01646) located in Sweetwater County, Wyoming. The petitioner requests a modification of the existing standard as it pertains to temporary underground diesel fuel storage area location. The petitioner proposes to: (i) Store the temporary diesel transportation unit no more than 1,000 feet from the section loading point, or projected loading point during equipment installation, or the last designated loading point during equipment removal; (ii) equip the diesel fuel transportation unit with an MSHA approved automatic fire suppression system that meets the requirements of 30 CFR 75.1911; (iii) equip the diesel fuel storage tank with an MSHA-approved automatic fire suppression system that is installed to meet the requirements of 30 CFR 75.1911; and (iv) permit a certified person to examine the temporary diesel fuel storage area twice at each shift as required by 30 CFR 75.362, when work is being performed inby the temporary diesel fuel storage area, and conduct a pre-shift examination of the diesel fuel storage area as required by 30 CFR 75.360, when work is performed in the area. The petitioner has listed specific procedures in this petition that will be followed when the proposed alternative method is implemented. The petitioner asserts that the proposed alternative method would provide at least the same measure of protection as the existing standard.

2. Rosebud Mining Company

[Docket No. M-2006-005-C]

Rosebud Mining Company, P.O. Box 1025, Northern Cambria, Pennsylvania 15714 has filed a petition to modify the application of 30 CFR 75.1710-1 (Canopies or cabs; self-propelled electric face equipment; installation requirements) to its Clementine Mine (MSHA I.D. No. 36-08862) located in Armstrong County, Pennsylvania. The petitioner proposes to use the Long-Airdox Mobile Bridge Carrier, Model Number MBC-27L (frame height 25.5 inches) and the Fletcher Roof Bolter, Model RRII-13, C-F (frame height 30 inches) without canopies in specific areas of the mine, due to widely varying mining heights. The petitioner asserts that the proposed alternative method would provide at least the same measure of protection as the existing standard.

3. CONSOL Energy, Inc.

[Docket No. M-2006-006-C]

CONSOL Energy, Inc., 1800 Washington Road, Pittsburgh, Pennsylvania 15241-1421 has filed a petition to modify the application of 30 CFR 75.503 (Permissible electric face equipment; maintenance) to its Blacksville No. 2 Mine (MSHA I.D. No. 46-01968) located in Monongalia County, West Virginia. The petitioner requests a modification of the existing standard to permit the use of a non-permissible battery-operated surveying instrument inby the last open crosscut. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before March 23, 2006.

Copies of these petitions are available for inspection at that address.

Dated at Arlington, Virginia this 10th day of February 2006.
Robert F. Stone,
Acting Director, Office of Standards, Regulations, and Variances.

[FR Doc. E6-2396 Filed 2-17-06; 8:45 am]

BILLING CODE 4510-43-P